DEPARTMENT OF DEFENSE

Department of the Navy

Notice of Availability and Notice of Public Hearings for Draft Environmental Impact Statement for the Activities To Implement 2005 Base Realignment and Closure Actions at National Naval Medical Center, Bethesda, MD

AGENCY: Department of the Navy, DoD.

ACTION: Notice.

SUMMARY: Pursuant to Section (102)(2)(C) of the National Environmental Policy Act of 1969 (NEPA), the regulations implemented by the Council on Environmental Quality (40 CFR parts 1500-1508), and the Department of the Navy (DON) NEPA regulation (32 CFR part 775), DON announces the availability of the Draft Environmental Impact Statement (DEIS) for potential environmental impacts associated with implementing actions directed by the Defense Base Closure and Realignment (BRAC) Act of 1990, Public Law 101-510, as amended in 2005 (BRAC Law), at the National Naval Medical Center (NNMC) in Bethesda, MD.

Under the BRAC law, the Walter Reed Army Medical Center (WRAMC) will realign all tertiary and complex health care services to the NNMC campus in Bethesda. The transfer and integration of these services with existing functions at NNMC will result by law in creation of a new premier military health care center to be named the Walter Reed National Military Medical Center (WRNMMC) at Bethesda, MD.

The BRAC law calls for completion of the realignment, establishment of the WRNMMC, and closure of WRAMC to be accomplished by 15 September 2011.

The realignment of tertiary and complex medical care will bring additional patients and visitors requiring additional staff and facilities to be provided at NNMC. The DEIS provides information on the proposed new construction and facility alterations, current estimates of the additional staff that will be needed, and an assessment of the potential environmental impacts associated with implementation of these realignment actions at NNMC in Bethesda, MD.

DATES: The public comment period for the DEIS will end 45 days after publication of an NOA in the Federal Register by the United States Environmental Protection Agency. All comments on the DEIS must be postmarked, faxed, or e-mailed by midnight January 28, 2008.

ADDRESSES: Send comments to Officer in Charge—BRAC, National Naval Medical Center, 8901 Wisconsin Avenue, Bethesda, MD 20889, fax: 301-295-5020 or e-mail: NNMCEIS@med.navy.mil.

FOR FURTHER INFORMATION CONTACT: Officer in Charge—BRAC, National Naval Medical Center, 8901 Wisconsin Avenue, Bethesda, MD 20889, Telephone: 301-295-2722 during normal business hours Monday through Friday, fax: 301-295-5020, or e-mail: NNMCEIS@med.navy.mil.

SUPPLEMENTARY INFORMATION: This DEIS evaluates the potential environmental effects of construction and operation of new facilities at the National Naval Medical Center (NNMC), Bethesda, Maryland. Alternative One would add approximately 1,144,000 square feet (SF) of new building construction, provide approximately 508,000 SF of renovation to existing building space at NNMC, and provide approximately 824,000 SF of new parking facilities. It would accommodate approximately 2,500 additional staff. The new construction or improvements to existing facilities would provide medical care and administration additions and alterations, a Traumatic Brain Injury/Post Traumatic Stress Disorder Intrepid Center of Excellence, permanent and temporary lodging facilities (Bachelor Enlisted Quarters and Fisher Houses™), a new physical fitness center, additional parking, and road and utility improvements on the installation as needed to support the new facilities. Under Alternative Two, the same facilities are proposed; some facility sites change and the choice of new construction versus renovation of some facilities differs from Alternative One. Alternative Two would add to NNMC approximately 1,230,000 SF feet of new building construction, approximately 423,000 SF of building renovation, and approximately 824,000 SF of new parking facilities. The estimated staffing increase would also be approximately 2,500 personnel under Alternative Two.

The Notice of Intent (NOI), published in the Federal Register on November 21, 2006, identified the following alternatives to be under consideration in the EIS: (1) Implement the BRAC recommendation; (2) Implement the BRAC recommendation and provide for future anticipated growth, support activities, and changes to the installation; (3) No action, with NNMC continuing to maintain and repair existing facilities without additional growth.

Since November 2006, a number of planning decisions have been made by Department of Defense (DoD) that have affected, but not substantially changed, the proposed NEPA analysis on the best way to ensure world-class care is provided for the Nation's wounded veterans both today and in the post-BRAC environment. Special housing, billeting, food service, medical support, and administrative support requirements were determined and then appropriately sited on the NNMC Bethesda campus. The decisions made by DoD resulted in a refocused effort in this DEIS to concentrate in the Proposed Action entirely on implementation of the BRAC mandate through Warrior Care. Any other non-BRAC related future growth, support activities, or changes to the installation are considered when reasonably foreseeable in the analysis of cumulative impacts.

The DEIS finds that environmental impacts from Alternative One and Alternative Two would be similar. The DEIS analysis indicates an increase in off-base traffic volumes due to the increase in staff, patients, and visitors. The off-base traffic impact would be the same for either alternative. The DEIS finds that proposed new facilities would involve a small increase in impervious surface area and minimal impacts to biological resources because the new facilities would be constructed on either existing development such as parking lots or on landscaped areas. The increase in runoff resulting from the increase in impervious surface would be controlled with storm water management and erosion and sediment control measures.

Emissions of air pollutants from the Proposed Action during construction and operations would not exceed de minimis levels or ambient standards established by the U.S. Environmental Protection Agency for protection of the airshed and thus air quality impacts would not be significant. Short-term increases in noise levels would occur during construction that are typical of construction activities. No major issues are anticipated for utilities required to support the NNMC expansion.

Formal consultation under the National Historic Preservation Act with appropriate agencies will be conducted by the DON to ensure that construction of new buildings in the NNMC Bethesda Historic District would be accomplished with minimal impacts to cultural resources.

The DEIS finds that the Proposed Action is compatible with existing land use plans and land use planning underway within NNMC. Beneficial economic impacts to the surrounding economy are anticipated under each action alternative, resulting from the large investment in construction and renovation of facilities. Local residents could experience increased traffic on weekdays and weekends. Personnel relocating from their positions at WRAMC are not expected to change their off base residences; therefore, impacts to local housing, schools, or community services are expected to be minimal. Adherence to applicable regulations and guidance will avoid impacts to human health and safety.

The DEIS has been distributed to various federal, state, and local agencies, elected officials, special interest groups, and interested parties. The DEIS is also available for public review at the following local libraries and public facilities: Bethesda Library, 7400 Arlington Road, Bethesda, MD 20814; Chevy Chase Library, 8005 Connecticut Avenue, Chevy Chase, MD 20815; Davis Library, 6400 Democracy Boulevard, Bethesda, MD 20817; Kensington Park Library, 4201 Knowles Avenue, Kensington, MD 20895; Rockville Library, 21 Maryland Avenue, Rockville, MD 20850; Bethesda-Chevy Chase Regional Services Center, 4805 Edgemoor Lane, Bethesda, MD 20814; Bethesda Urban Partnership, Inc., 7700 Old Georgetown Road, Bethesda, MD 20814; and Bethesda-Chevy Chase Chamber of Commerce, 7910 Woodmont Avenue, Suite 1204, Bethesda, MD 20814.

The DEIS is also available at the following Web sites: http://www.bethesda.med.navy.mil/Professional/Public_Affairs/BRAC/; and http://www.montgomerycountymd.gov/brac.

The DON also invites the general public, local governments, state and other federal agencies to participate in the public hearings where the DON will receive oral and written comments on the DEIS. Two hearings will be held: January 9 and 10, 2008 from 6 p.m. to 8 p.m., at Pooks Hill Marriott, 5151 Pooks Hill Road, Bethesda, MD 20814.

The public hearings will be conducted in English. A court reporter will be available to record oral comments. The DON requests that people desiring to speak submit, in writing, their intention to participate and that they frame their statements to meet a three (3) minute limitation on the length of any oral statement. The limit is not intended to constrain an individual's ability to make comments but rather to ensure that all persons requesting to make a comment are given that opportunity. The DON also requests that technical statements or statements of considerable length be submitted in writing.

For requests for special assistance, sign language interpretation for the hearing impaired, language interpreters, or other auxiliary aids at the scheduled public hearings, please contact: Officer in Charge—BRAC, National Naval Medical Center, 8901 Wisconsin Avenue, Bethesda, MD 20889, Telephone: 301-295-2722 during normal business hours Monday through Friday, fax: 301-295-5020, or e-mail: NNMCEIS@med.navy.mil.

To allow time for the arrangements to be made, any request for special assistance at the public hearings must be made to the DEIS point of contact by January 04, 2008.

Dated: December 10, 2007.
T.M. Cruz,
Lieutenant, Judge Advocate Generals Corps, U.S. Navy, Federal Register Liaison Officer.

[FR Doc. E7-24214 Filed 12-13-07; 8:45 am]

BILLING CODE 3810-FF-P